Title 3—

The President

Proclamation 7517 of January 15, 2002

Religious Freedom Day, 2002

By the President of the United States of America

A Proclamation

Religious freedom is a cornerstone of our Republic, a core principle of our Constitution, and a fundamental human right. Many of those who first settled in America, such as Pilgrims, came for the freedom of worship and belief that this new land promised. And when the British Colonies became the United States, our Founders constitutionally limited our Federal Government's capacity to interfere with religious belief by prohibiting the Congress from passing any law “respecting an establishment of religion, or prohibiting the free exercise thereof.” These constitutional limits have allowed the flourishing of faith across our country, which greatly blesses our land.

George Washington forcefully expressed our collective constitutional promise to protect the rights of people of all faiths, in a historic letter he wrote to the Jewish community at Touro Synagogue in Newport, Rhode Island: “the Government of the United States, which gives to bigotry no sanction, to persecution no assistance, requires only that they who live under its protection should demean themselves as good citizens....” Today, our cities are home to synagogues, churches, temples, mosques, and other houses of worship that peacefully welcome Americans of every belief. Preserving religious freedom has helped America avoid the wars of religion that have plagued so many cultures throughout history, with deadly consequences.

Today, as America wages war against terror, our resolve to defend religious freedom remains as strong as ever. Many miles from home, American service men and women have risked their lives in our efforts to drive the Taliban regime from power, ending an era of brutal oppression, including religious oppression. At home, Americans demonstrated the vitality of our religious freedom in the enormous outreach by faith communities to help those harmed by the terrorist attacks. In quiet prayers offered to God in churches, synagogues, temples, and mosques and in the helping hands of faith-based groups, Americans have shown a deep love for others and genuine spiritual unity that will sustain us through the difficult days of recovery.

Religious Freedom Day provides us an opportunity to celebrate America's commitment to protect the freedom of religion. On this special day, I encourage all Americans to renew their commitment to protecting the liberties that make our country a beacon of hope for people around the world who seek the free exercise of religious beliefs and other freedoms.

NOW, THEREFORE, I, GEORGE W. BUSH, President of the United States of America, by virtue of the authority vested in me by the Constitution and laws of the United States, do hereby proclaim January 16, 2002, as Religious Freedom Day. I urge all Americans to observe this day by asking for the blessing and protection of Almighty God for our Nation, and to engage in appropriate ceremonies and activities in their homes, schools, and places of worship as a sign of our resolve to protect and preserve our religious freedom.

IN WITNESS WHEREOF, I have hereunto set my hand this fifteenth day of January, in the year of our Lord two thousand two, and of the Independence of the United States of America the two hundred and twenty-sixth.

B

[FR Doc. 02-1593

Filed 01-17-02; 8:45 am]

Billing code 3195-01-P